DEPARTMENT OF ENERGY

Federal Energy Regulatory Commission

Combined Notice of Filings #1

Take notice that the Commission received the following electric corporate filings:

Docket Numbers: EC16-26-000.

Applicants: Waverly Wind Farm LLC.

Description: Application for Authorization for Disposition of Jurisdictional Facilities and Request for Expedited Action of Waverly Wind Farm LLC.

Filed Date: 11/3/15.

Accession Number: 20151103-5227.

Comments Due: 5 p.m. ET 11/24/15.

Docket Numbers: EC16-27-000.

Applicants: Carousel Wind Farm, LLC.

Description: Application for Authorization Under Section 203 of the Federal Power Act and Request for Expedited Action of Carousel Wind Farm, LLC.

Filed Date: 11/3/15.

Accession Number: 20151103-5247.

Comments Due: 5 p.m. ET 11/24/15.

Take notice that the Commission received the following electric rate filings:

Docket Numbers: ER14-2529-004.

Applicants: Pacific Gas and Electric Company.

Description: Compliance filing: eTariff Migration Compliance Filing for TO16 Settlement to be effective 7/23/2015.

Filed Date: 10/28/15.

Accession Number: 20151028-5216.

Comments Due: 5 p.m. ET 11/18/15.

Docket Numbers: ER15-1687-003.

Applicants: Blue Cube Operations LLC.

Description: Notice of Change in Status of Blue Cube Operations LLC.

Filed Date: 11/3/15.

Accession Number: 20151103-5264.

Comments Due: 5 p.m. ET 11/24/15.

Docket Numbers: ER16-251-000.

Applicants: AEP Generation Resources Inc.

Description: § 205(d) Rate Filing: Mitchell Plant Concurrence RS 303 Cancellation to be effective 1/31/2015.

Filed Date: 11/3/15.

Accession Number: 20151103-5189.

Comments Due: 5 p.m. ET 11/24/15.

Docket Numbers: ER16-252-000.

Applicants: Kentucky Power Company.

Description: § 205(d) Rate Filing: Mitchell Agreement Cancellation to be effective 1/31/2015.

Filed Date: 11/3/15.

Accession Number: 20151103-5192.

Comments Due: 5 p.m. ET 11/24/15.

Docket Numbers: ER16-253-000.

Applicants: AEP Generation Resources Inc.

Description: § 205(d) Rate Filing: AEP GR MBR Tariff Mitchell Cleanup Filing to be effective 1/31/2015.

Filed Date: 11/3/15.

Accession Number: 20151103-5193.

Comments Due: 5 p.m. ET 11/24/15.

Docket Numbers: ER16-254-000.

Applicants: Southwest Power Pool, Inc.

Description: § 205(d) Rate Filing: Ministerial Filing of Non-Substantive Membership Agreement Revisions to be effective 10/1/2015.

Filed Date: 11/3/15.

Accession Number: 20151103-5199.

Comments Due: 5 p.m. ET 11/24/15.

Docket Numbers: ER16-255-000.

Applicants: East Coast Power & Gas of New Jersey, LL.

Description: Baseline eTariff Filing: ECP&G NJ Market Based Rate Tariff to be effective 1/1/2016.

Filed Date: 11/3/15.

Accession Number: 20151103-5201.

Comments Due: 5 p.m. ET 11/24/15.

Docket Numbers: ER16-256-000.

Applicants: CEP&G LLC.

Description: Baseline eTariff Filing: CEP&G LLC Market Based Rate Tariff to be effective 1/1/2016.

Filed Date: 11/3/15.

Accession Number: 20151103-5202.

Comments Due: 5 p.m. ET 11/24/15.

Docket Numbers: ER16-257-000.

Applicants: Southern California Edison Company.

Description: § 205(d) Rate Filing: Amendment of LGIA, Service Agreement No. 171 to be effective 1/3/2016.

Filed Date: 11/3/15.

Accession Number: 20151103-5205.

Comments Due: 5 p.m. ET 11/24/15.

Docket Numbers: ER16-258-000.

Applicants: Southern California Edison Company.

Description: § 205(d) Rate Filing: True-Up SGIA and Distribution Service Agmt Golden Springs to be effective 1/4/2016.

Filed Date: 11/4/15.

Accession Number: 20151104-5001.

Comments Due: 5 p.m. ET 11/25/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2015.
Nathaniel J. Davis, Sr.,
Deputy Secretary.

[FR Doc. 2015-28631 Filed 11-10-15; 8:45 am]

BILLING CODE 6717-01-P